FEDERAL COMMUNICATIONS COMMISSION

[CG Docket No. 09-158; DA 10-803]

Comment Sought on Measures Designed To Assist U.S. Wireless Consumers To Avoid “Bill Shock”

AGENCY: Federal Communications Commission.

ACTION: Notice.

SUMMARY: In this document, the Commission seeks to gather information on the feasibility of instituting usage alerts and cut-off mechanisms similar to those required under the European Union (EU) regulations that would provide wireless voice, text, and data consumers in the United States a way to monitor, on a real-time basis, their usage of a wireless communications service, as well as the various charges they may incur in connection with such usage (e.g., roaming services, voice service “minute plans,” text message plans). Specifically, the Commission seeks comment on whether technological or other differences exist that would prevent wireless providers in this country from employing similar usage controls as those now required by the EU.

DATES: Comments are due on or before July 6, 2010. Reply comments are due on or before July 19, 2010.

ADDRESSES: Interested parties may submit comments and reply comments identified by [CG Docket No. 09-158], by any of the following methods:

• Electronic Filers: Comments may be filed electronically using the Internet by accessing the Commission's Electronic comment Filing System (ECFS), through the Commission's Web site: http://www.fcc.gov/cgb/ecfs/, or the Federal eRulemaking Portal: http://www.regulations.gov. Filers should follow the instructions provided on the Web site for submitting comments.

• For ECFS filers, in completing the transmittal screen, filers should include their full name, U.S. Postal Service mailing address, and the applicable docket number, which in this instance is [CG Docket No. 09-158]. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

FOR FURTHER INFORMATION CONTACT: Richard D. Smith, Consumer and Governmental Affairs Bureau, Policy Division, at (717) 338-2797 (voice), or e-mail Richard.Smith@fcc.gov.

SUPPLEMENTARY INFORMATION: In its 2009 Consumer Information and Disclosure NOI, the Commission sought comment on potential opportunities for protecting and empowering American consumers by ensuring access to relevant information about communications services.

See 2009 Consumer Information and Disclosure; Truth-in-Billing and Billing Format; IP-Enabled Services, CG Docket No. 09-158; CC Docket No. 98-870; WC Docket No. 04-36, Notice of Inquiry, 24 FCC Rcd 11380 (2009) (2009 Consumer Information and Disclosure NOI). This is a summary of the Commission's Public Notice DA 10-803. Pursuant to 47 CFR 1.415 and 1.419 of the Commission's rules, interested parties may file comments and reply comments on or before the dates indicated above. This proceeding shall be treated as a permit-but-disclose proceeding under the ex parte rules, which are codified at 47 CFR 1.1200(a) and 1.1206. Therefore, ex parte presentations will be allowed but must be disclosed in accordance with the requirements of § 1.1206(b) of the Commission's Rules, 47 CFR 1.1206(b). Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

The full text of document DA 10-803 and any subsequently filed documents in this matter will be available for public inspection and copying during regular business hours at the FCC Reference Information Center, Portals II, 445 12th Street, SW., Room CY-A257, Washington, DC 20554, (202) 418-0270. Document DA 10-803 and any subsequently filed documents in this matter may also be purchased from the Commission's duplicating contractor at the contractor's Web site, http://www.bcpiweb.com, or by calling (800) 378-3160. Furthermore, document DA 10-803 and any subsequently filed documents in this matter may be found by searching ECFS at http://www.fcc.gov/cgb/ecfs (insert [CG Docket No. 09-158] into the Proceeding block).

To request materials in accessible formats for people with disabilities (Braille, large print, electronic files, audio format), send an e-mail to fcc504@fcc.gov or call the Consumer and Governmental Affairs Bureau at (202) 418-0530 (voice), (202) 418-0432 (TTY). Document DA 10-803 can also be downloaded in Word or Portable Document Format (PDF) at: http://www.fcc.gov/cgb/policy/headlines.html.

Synopsis

In the 2009 Consumer Information and Disclosure NOI, the Commission sought comment on potential opportunities for protecting and empowering American consumers by ensuring access to relevant information about communications services. Among other things, the Commission noted that advances in technology, including usage alerts delivered via text message, other usage controls, and online comparison tools, offer “new opportunities to improve the kind and degree of information available to consumers.” On the issue of usage alerts, the Commission asked whether consumers can be provided with “more useful information about their service usage once they are using a plan to prevent them from incurring unexpected charges, or to adjust their plan as their usage patterns change.” It also sought information concerning how widespread the practice of usage alerts is and, where such controls are used, whether the consumer is alerted prior to incurring additional charges, or only after the consumer has exceeded some threshold level of charges or minutes. Finally, the Commission sought comment on the level of cost detail typically included in usage alert messages.

In June 2009, the EU adopted regulations governing the transparency of retail roaming charges incurred by European wireless customers for voice calls, text messaging, and data services when traveling to other EU markets. Certain of these provisions, commonly referred to as the “bill shock” provisions, are designed to ensure that a consumer is fully aware of the roaming charges he or she is incurring so that the consumer does not receive a higher than expected bill for these services. A number of EU mobile service providers had already implemented procedures to combat the problem of “bill shock” prior to the adoption of the June 2009 regulations. Under the new EU regulations, when a wireless consumer places a voice call or text message in an EU market other than the consumer's home market, the consumer's home market provider must send to the consumer, free of charge, a text message detailing roaming prices for sending and receiving voice calls and text messages. The consumer may elect not to receive this automatic notification service, but the service must be provided again, free of charge, upon request by the consumer. The new EU regulations also require that wireless providers notify a consumer using a data roaming service when the consumer has reached 80 percent of an agreed upon limit (either a default limit or a customer-designated limit). When a consumer exceeds the established monetary or volume roaming limit, the provider must send another notification explaining the applicable costs and procedures if the consumer wishes to continue using the data roaming service. At that point, the provider must cease providing the service pending further instruction from the consumer.

In this document, the Commission seeks to gather information on the feasibility of instituting usage alerts and cut-off mechanisms similar to those required under the EU regulations that would provide wireless voice, text, and data consumers in the United States a way to monitor, on a real-time basis, their usage of a wireless communications service, as well as the various charges they may incur in connection with such usage (e.g., roaming services, voice service “minute plans,” text message plans). Specifically, the Commission seeks comment on whether technological or other differences exist that would prevent wireless providers in this country from employing similar usage controls as those now required by the EU.

The Commission also seeks comment on the extent to which consumers currently have the means at their disposal to monitor their wireless usage and are fully aware of the consequences of exceeding their predetermined allocations of voice minutes, text message limits, or data usage. To what extent are U.S. providers already offering such features, and at what cost to the consumer and/or to the provider? Do certain usage controls lend themselves more to one type of service (such as voice) than to another (such as data)? To what extent is such information currently accessible via wireless devices by people with disabilities, and in particular by people who are blind or low vision who need on-screen text and other visual indicators to be accompanied by audio output? Would a requirement for certain types of usage controls prevent or help consumers with hearing, visual, cognitive or other disabilities in receiving the information they need to effectively monitor their usage? The Commission seeks comment on these and other issues relevant to whether it should adopt usage control measures that will help consumers to avoid receiving higher than expected bills for their wireless communications services.

All comments should refer to CG Docket No. 09-158. Further, the Commission strongly encourages parties to develop responses that adhere to the organization and structure of the questions in the Public Notice DA 10-803.

Colleen Heitkamp,
Division Chief, Consumer and Governmental Affairs Bureau, Federal Communications Commission.

[FR Doc. 2010-12140 Filed 5-19-10; 8:45 am]

BILLING CODE 6712-01-P